SOCIAL SECURITY ADMINISTRATION

Statement of Organization, Functions and Delegations of Authority

This statement amends part S of the Statement of the Organization, Functions and Delegations of Authority which covers the Social Security Administration (SSA). Chapter S2 covers—the Deputy Commissioner, Operations. Notice is given that Subchapter S2R, the Office of Central Operations, is being amended. Further, a new Subchapter, S2RC5, the Center for Human Resources, is being established. The new material and changes are as follows:

Section S2.20 The Office of the Deputy Commissioner, Operations—(Functions):

Add the following to Function D:

The office provides overall management direction for the provision of personnel services and administrative support to all OCO components. It maintains a broad overview of administrative operations to ensure effective coordination of all component activities.

Section S2R.00 The Office of Central Operations—(Mission):

Add the following to the opening paragraph:

It provides executive leadership and direction for the provision of personnel management and administrative support for all components within OCO.

Section S2R.10 The Office of Central Operations—(Organization):

C. The Immediate Office of the Associate Commissioner, Office of Central Operations (S2R).

4. The Assistant Associate Commissioner for Management Operations and Support (S2RC).

Establish:

e. The Center for Human Resources (S2RC5).

Section S2R.20 The Office of Central Operations—(Functions):

C. The Immediate Office of the Associate Commissioner, OCO (S2R) provides internal operations and management support and assistance to the Associate Commissioner and all OCO components.

Amend as follows:

4. The Assistant Associate Commissioner for Management and Operations Support (S2RC) is responsible for the direction of five centers which perform systems, management, program, material resources and personnel management services functions for OCO.

b. The Center for Management Support (S2RC2):

1. Provides administrative support to the Associate Commissioner, OCO; and the OCO Assistant Associate Commissioners in such areas as:

Amend as follows:

—Labor-Management and Employee Relations.

• Maintain responsibility for all aspects of the mid-term and impact and implementation bargaining process that pertain only to OCO.

• Process grievances through all steps of the grievance procedure.

• Represent OCO managers at all stages of the arbitration process, including the preparation of position papers and briefs.

• Process all aspects of systems violations in accordance with guidance issued by the Office of Human Resources and the Deputy Commissioner for Operations.

—Performance Management and Recognition.

—Resource Planning and Management.

—Budget Development and Management.

—Management Information and Analysis.

Establish:

e. The Center for Human Resources (S2RC5):

1. Exercises appointing authorities in accordance with law and Office of Personnel Management (OPM) regulations, policies and procedures.

2. Administers the merit promotion process for bargaining and non-bargaining unit employees.

3. Recruits and examines new hires.

4. Effects personnel actions in the Department of the Interior Federal Personnel and Payroll System.

5. Maintains applicant supply files.

6. Establishes and maintains Official Personnel Folders.

7. Conducts entry-on-duty processing for new employees.

8. Administers Federal Group Life Insurance and Thrift Savings Plan programs.

9. Reviews for accuracy and compliance, approvals of recruitment and relocation bonuses.

10. Investigates and prepares responses to administrative backpay claims and waivers of overpayments.

11. Processes workers' compensation claims.

12. Organization planning.

Dated: June 5, 2000.
Paul D. Barnes,
Deputy Commissioner for Human Resources.

[FR Doc. 00-15205 Filed 6-15-00; 8:45 am]

BILLING CODE 4191-02-P